FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AHC Logistics Cargo Consultant, Inc. (NVO & OFF), 10540 NW. 26th Street, Suite G-108, Doral, FL 33172, Officers: Alvaro Hernandez-Crassus, President (QI), Any A. Vega, Vice President, Application Type: New NVO & OFF License.

Caucas International LLC (NVO & OFF), 1950 Old Gallows Road, Vienna, VA 22182, Officers: Angela M. Moore, Logistics Manager (QI), Fadi S. Abuhamdeh, Member, Application Type: New NVO & OFF License.

Del Corona & Scardigli USA Inc. (OFF), 15 W. 36th Street, Suite 11th Floor, New York, NY 10018, Officers: Fabio Goldoni, Vice President Sales (QI), Stefano D'Angelo, CEO, Application Type: New OFF License.

Easy Express Inc. (NVO & OFF), 11222 S. La Cienega Boulevard, Suite 688, Inglewood, CA 90304, Officers: Xin (a.k.a. Keith) Tu, CFO (QI), Yang Su, CEO, Application Type: QI Change.

Ed Cury Enterprises Inc. (NVO & OFF), 3053 NW. 82nd Avenue, Doral, FL 33122, Officers: Roberta M. Cury, Vice President (QI), Edson Silva, President, Application Type: New NVO & OFF License.

Lasus Group LLC (NVO & OFF), 2625 Collins Avenue, Apt. 1903, Miami, FL 33140, Officers: Susana I. Arce, Manager (QI), Rodrigo R. Arce, Manager, Application Type: New NVO & OFF License.

Lead Young Logistics International, Inc. (NVO), 1032 Edwards Road, Burlingame, CA 94010, Officer: Denis Cheng, President (QI), Application Type: New NVO License.

Quartz Logistics Inc. (NVO & OFF), 780 S. Nogales Street, Suite #D, City of Industry, CA 91748, Officers: Robert Wu, CEO (QI), Tai R. Wang, Secretary, Application Type: QI Change.

Razor Enterprise Inc. (NVO & OFF), 175-01 Rockaway Blvd., Suite 212, Jamaica, NY 11434, Officers: Bibi R. Juman, Vice President (QI), Edmond Yau, President, Application Type: Add Trade Name Razor Cargo Services.

Shock Value International, Inc. dba JP Global Logistics (NVO & OFF), 377 Oyster Point Blvd., Suite 11, South San Francisco, CA 94080, Officers: John S. Kim, Vice President (QI), Paul H. Choe, President, Application Type: New NVO & OFF License.

Southern Export Services, Inc. (NVO & OFF), 5192 Southridge Parkway, Suite 109, College Park, GA 30349, Officers: Joel Fischer-Columbo, Vice President—Tulsa Operations (QI), Andrew J. Senter, President, Application Type: QI Change.

Top Logistics NJ Inc (NVO), 53 Knapp Avenue, Edison, NJ 08817, Officers: Wenjie Wu, Vice President (QI), Rongfang Chai, Director, Application Type: New NVO License.

Vilden Global Trade Solutions SDN BHD, Inc. (NVO), 21515 Hawthorne Blvd., Suite 1030, Torrance, CA 90503, Officers: Gregory H. Pearson, President (QI), Po H. Lai, Vice President, Application Type: New NVO License.

Dated: August 29, 2014.
By the Commission.
Karen V. Gregory,
Secretary.

[FR Doc. 2014-21079 Filed 9-3-14; 8:45 am]

BILLING CODE 6730-01-P